DEPARTMENT OF HEALTH AND HUMAN SERVICES

Centers for Disease Control and Prevention

Centers for Genomics and Public Health

Announcement Type: New.

Funding Opportunity Number: 04143.

Catalog of Federal Domestic Assistance Number: 93.061.

Key Dates:

Letter of Intent Deadline: May 17, 2004.

Application Deadline: June 15, 2004.

Table of Contents

I. Funding Opportunity Description

I.1 Authority

I.2 Background

I.3 Purpose

I.4 Activities

II. Award Information

III. Eligibility Information

III.1 Eligible Applicants

III.2 Cost Sharing or Matching

III.3 Other

IV. Application and Submission Information

IV.1 Address to Request Application Package

IV.2 Content and Form of Submission

IV.3 Submission Dates and Times

IV.4 Intergovernmental Review of Applications

IV.5 Funding Restrictions

IV.6 Other Submission Requirements

V. Application Review Information

V.1 Criteria

V.2 Review and Selection Process

V.3 Anticipated Announcement and Award Dates

VI. Award Administration Information

VI.1 Award Notices

VI.2 Administrative and National Policy Requirements

VI.3 Reporting Requirements

VII. Agency Contacts

VIII. Other Information

I. Funding Opportunity Description

I.1 Authority

This program is authorized under section 317(k)(2) of the Public Health Service Act (42 U.S.C. 247b(k)(2)), as amended.

I.2 Background

The wealth of information generated by the recently completed Human Genome Project has captivated both the scientific community and the public, and created an expectation that this knowledge will yield future health benefits. As a result, there is an emerging need to discover what human genome variation means for health and disease in populations. How can research results be translated into opportunities to improve the public's health? How can genomic information be used to prevent, detect and treat disease? How will the health workforce acquire the knowledge and skills needed to support the integration of genomics into health practice and programs?

In response to these needs, the Office of Genomics and Disease Prevention (OGDP) in collaboration with the Association of Schools of Public Health has funded cooperative agreements with three Schools of Public Health to establish the first Centers for Genomics and Public Health in 2001 (www.cdc.gov/genomics/activities/fund2001.htm). The goal for the initial three-year project period was to establish regional hubs of expertise in genomics and population health by coordinating existing institutional programs at the schools of public health and then reaching out to engage public health programs, health care providers and community groups. These partnerships provide a foundation for a national network of resource centers that could develop the capacity required to respond to future needs and opportunities related to genomics. In the original cooperative agreement, activities were focused in three areas: (1) Increasing the knowledge base in genomics and public health; (2) providing technical assistance to community, state, and regional organizations related to the integration of genomics into public health policy and programs; and (3) developing and providing training for the existing and future health workforce, with a particular focus on enhancing knowledge and awareness of genomics applications among public health workers.

I.3 Purpose

Since the initial funding of the Centers, the potential impact of genomics on health practice and the health workforce has been widely acknowledged. The 2002 Institute of Medicine (IOM) report entitled “Who Will Keep the Public Healthy?” ranked genomics as one of eight content areas to be included in public health education programs (http://www.iom.edu/file.asp?id=4166). Likewise, the CDC has identified genomics as an agency priority, citing the need to assess the impact of genomic variation on population health and to incorporate genomics into public health programs and practice (Comments of Dr. Julie Gerberding, CDC Director, Genomics and the Future of Public Health Symposium, Atlanta, GA, May 5, 2003).

The purpose of Program Announcement 04143, Centers for Genomics and Public Health, is to sustain development of the network of Centers for Genomics and Public Health (Centers), and continue to address the integration of genomics into health practice. Centers in the network will function as regional hubs of expertise in genomics and public health. The goal of the Centers network is to facilitate the translation of genomic information into health policy and programs by developing the capacity to: (1) Provide technical assistance to community, state and regional organizations by responding to identified needs and requests for information, assistance and training, and supporting the integration of genomics into population health research, policy and practice; (2) provide competency based training in genomics and population health for the health workforce, with a particular focus on enhancing knowledge and awareness of genomics applications among public health workers; (3) identify opportunities to serve as a credible and impartial provider of current information about genomics, genomic applications and population health, particularly to the public, policy makers and the health community; (4) participate in collaborative processes with other Centers, CDC and external partners; and (5) evaluate the process, achievements and impact of the Centers' activities.

This program addresses the “Healthy People 2010” focus areas of: Workforce, Prevention Research, Data and Information Systems, Public Health Organizations and Resources.

This program is consistent with CDC's agency-wide strategic plan to use genomic information to improve health and prevent disease across the lifespan. Measurable outcomes of the program will be in alignment with the performance goals for the Office of Genomics & Disease Prevention: Development of health workforce.

I.4 Activities

Awardee activities for this program are:

(1) Provide technical assistance to community, state and regional public health agencies (e.g., state health departments, including but not limited to those funded under PA #03022, Genomics and Chronic Disease Prevention: www.cdc.gov/genomics/activities/fund2003.htm) and other health care practitioners (e.g., providers and payers, community organizations) by:

(a) Serving as a source of expertise and information that has immediate or potential relevance in the practice of medicine and public health. For example, having the ability to provide, or provide access to, current information related to human genome research (e.g., gene-disease associations, gene-environment interactions), genomics and population health (e.g., pharmacogenomics, diagnosis/treatment/prevention of diseases of public health significance), or evidence-based processes for interpretation of scientific developments (e.g., Human Genome Epidemiology {HUGE} reviews or systematic evaluations of genetic tests; www.cdc.gov/genomics).

(b) Providing access to practical information from the current knowledge base in formats useful to health practitioners, policy makers and more general audiences, such as topic summaries, fact sheets and information briefs (e.g., Public Health Perspectives: www.cdc.gov/genomics/info/perspective. htm). Examples of approaches include identifying content experts, assembling existing materials and evaluating for accuracy and responsiveness to needs, and developing information summaries as needed by extracting, organizing and summarizing information.

(c) Responding to immediate needs and requests for assistance by accessing resources through the Center, the Centers' network, and external partners and community resources.

(d) Developing capacity to seek funding for applied research proposals that will address identified gaps and needs.

(e) Working with community, state and national public health partners and CDC to plan, conduct and evaluate needs assessments related to practice or workforce development (see 2. below).

(f) Convening or participating in workgroups or processes aimed at developing and implementing strategies for integrating genomic information into health care, and public health research, programs and policy (e.g., integrating family history into disease prevention efforts, utilizing existing data sources to identify and analyze population-based data).

(2) Provide competency-based training for health professionals, especially the public health workforce, with a focus on practical application of genomics knowledge in population health (www.cdc.gov/genomics/training/competencies; www.nchpeg.org/nchpeg.html), by:

(a) Identifying and evaluating existing genomic training materials/tools/modules for suitability in meeting identified needs and requests.

(b) Determining effective educational approaches (e.g., continuing education activities, packaged training modules/materials, conferences/workshops, web-based or distance learning) and delivering training.

(c) Calling attention to gaps in types or availability of educational materials and training tools identified through the Centers network and partners, and making strategic recommendations to CDC about high priority needs for development of new materials, tools or programs.

(3) Identify and respond to opportunities to serve as a credible and impartial provider of current information about genomics, genomic applications and population health to the public, policy makers, and the health community by:

(a) Supporting proactive educational initiatives at all levels (e.g., community based, K-12, academic, continuing education) aimed at improving understanding of current and potential roles for genomics information in improving health and preventing disease.

(b) Developing resources or approaches for evidence-based response to misleading or inaccurate genomics-related information in the media and on the Internet.

(c) Ensuring that information developed and disseminated by the Centers network and partners provides realistic expectations about the “value” (e.g., efficacy, utility, acceptability, cost-effectiveness) and public health impact of genomic applications and explains how that value is assessed.

(4) Actively participate with CDC, the Centers network and key external partners and collaborators (e.g., states funded to develop genomics capacity) in a consultative process to assess major unmet needs, identify strategies for meeting needs, and classify and prioritize issues and topics of common interest and highest public health importance.

(5) Develop and maintain relationships and collaborations with public, private and academic partners that support the objectives and activities of the network of Centers.

(6) Collaborate with CDC and other partners and investigators to organize meetings/workshops and develop publications (e.g., articles, peer-reviewed papers, contribution to OGDP genomics reports).

(7) Design and implement an evaluation plan that will demonstrate and document measurable progress toward stated objectives, as well as capture information and insights about activities, strategies (e.g., opportunities, successes, barriers) and impact that can be shared among the network of Centers.

In a cooperative agreement, CDC staff is substantially involved in the program activities, above and beyond routine program monitoring. CDC activities for this program are as follows:

(1) Coordinate activities, collaboration and information exchange among the Centers, CDC, other national organizations and agencies, and within the larger health practice community. Disseminate information related to Center and network activities through conferences, workshops and publications.

(2) Convene required meetings to facilitate collaboration and information sharing, and to guide Centers in developing plans consistent with objectives.

(3) Serve as a liaison with other Federal and outside organizations.

(4) Help identify expertise and resources to develop specific products/tools for which a need has been defined, but for which Centers are not funded (e.g., development/production of products/tools requiring multi-specialty expertise and resources).

(5) Conduct onsite visits of Centers to provide consultation and technical support and assist Centers in meeting objectives and requirements of the cooperative agreement.

(6) Monitor and evaluate the Center's progress toward meeting the goals, objectives, timeline and performance evaluation.

II. Award Information

Type of Award: Cooperative Agreement.

CDC involvement in this program is listed in the CDC Activities Section above.

Fiscal Year Funds: 2004.

Approximate Total Funding: $2.5 million.

Approximate Number of Awards: Up to five.

Approximate Average Award: $500,000 (Amount for the first 12-month period, including both direct and indirect costs).

Floor of Award Range: $400,000.

Ceiling of Award Range: $600,000.

Anticipated Award Date: September 1, 2004.

Budget Period Length: 12 months.

Project Period Length: Four years.

Throughout the project period, CDC's commitment to continuation of awards will be conditioned on the availability of funds, evidence of satisfactory progress by the recipient as documented in required reports and the determination that continued funding is in the best interest of the Federal Government.

III. Eligibility Information

III.1 Eligible Applicants

Applications may be submitted by Schools of Public Health (SPH) and other public and private nonprofit organizations, such as: universities, colleges and research institutions.

Eligibility Criteria

Applicants must describe and document capacity and capabilities appropriate to the program, including:

• Access to, and well-defined availability of, staff or collaborators with multidisciplinary expertise (public health practice, epidemiology, genomics, clinical genetics and medicine, policy, health communications and education).

• Demonstrated ability to develop educational and practice collaborations among public, private and academic partners, with emphasis on public health and health science institutions, state health departments and other agencies, health care organizations and community groups.

• Experience relevant to the specific objectives and activities of the program, particularly direct involvement with public health practice, improving population health and integrating genomics into practice.

• Expertise in needs assessment and planning and delivering technical assistance and training to public health workers or other health professionals.

More information on the documentation of eligibility can be found in IV.2—Content and Form of Submission. Note that eligibility for the initial (2001) program announcement that formed the network of Centers for Genomics in Public Health was limited to SPH, in part to specifically target state and community program capacity in genomics and population health. SPH provided distinctive qualifications for initiating this program, including health leadership and networking capacity, relevant expertise (e.g., public health and clinical practice, epidemiology, genomics, health education), familiarity with public health practice and population health programs and experience developing and delivering training to the public health workforce.

For the 2004 program announcement, institutions and organizations listed above in III.1—Eligible Applicants (including those that are not SPH) are invited to submit applications, but specific capacity must be demonstrated as discussed above.

III.2 Cost Sharing or Matching

Matching funds are not required for this program.

III.3 Other

If the application is incomplete or non-responsive, or a funding amount greater than the ceiling of the award range is requested, it will not be entered into the review process. Applicants will be notified that their application did not meet the submission requirements.

Note: Title 2 of the United States Code section 1611 states that an organization described in section 501(c)(4) of the Internal Revenue Code that engages in lobbying activities is not eligible to receive Federal funds constituting an award, grant, or loan.

IV. Application and Submission Information

IV.1 Address To Request Application Package

To apply for this funding opportunity use application form PHS 5161. Application forms and instructions are available on the CDC Web site, at the following Internet address: www.cdc.gov/od/pgo/forminfo.htm.

If applicants do not have access to the Internet, or if applicants have difficulty accessing the forms on-line, they may contact the CDC Procurement and Grants Office Technical Information Management Section (PGO-TIM) staff at 770-488-2700. Application forms can be mailed to applicants.

IV.2 Content and Form of Submission

Letter of Intent (LOI): CDC requests that applicants send a LOI if they intend to apply for this program, PA #04143 Centers for Genomics and Public Health. The LOI is not legally binding and will not be evaluated. It is requested from potential applicants to assist CDC in planning for the program application review. Applicants may use the LOI template provided in Appendix A (Appendix A can be viewed, along with the full program announcement, on the CDC Web site at: http://www.cdc.gov/od/pgo/funding/grantmain.htm) or provide an LOI in the following format:

• Maximum of two pages;

• Single-spaced;

• One inch margins;

• 12-point unreduced font;

• 8.5 by 11 inch paper;

• Printed only on one side.

The LOI must contain the following information:

• Program Announcement number and title;

• Institution name and location;

• Name, address, telephone and fax numbers, and e-mail address of a contact person from the applicant institution;

• Name of the Principal Investigator and brief description of the applicant's professional activity focus (three to four lines).

Do not include attachments. The deadline for receiving the LOI will be May 17, 2004.

Application: The applicant must submit a project narrative with the application forms. Each narrative must be submitted in the following format:

• Maximum number of pages: 25.

The narrative should be no more than 25 clearly numbered pages. Federal forms, table of contents, abstract, budget, budget justifications and appendices are not counted toward the narrative page limit. If the narrative exceeds the page limit, only the first 25 pages will be reviewed. Utilize the following format:

• 12 point unreduced font;

• 8.5 by 11 inch paper, printed only on one side;

• Double spaced;

• One inch margins;

• Held together only by rubber bands or metal clips.

The narrative should address activities to be conducted over the entire project period, and must include the following items in the order listed:

• Abstract—A one-page, single-spaced abstract of the narrative with a heading that includes the title, organization, name and address of the project director, telephone and fax numbers and e-mail address.

• Table of Contents.

• Background—(1) Provide background that illustrates understanding of the translation continuum from human genome research to integration of genomics information into health practice, particularly the strategies for integrating knowledge into programs and workforce capacity that form the basis of the program. (2) Justify the need(s) for the proposed activities, and describe the relevance of expected outcomes to the Purpose of the Announcement.

• Relevant Resources and Experience—(1) Describe available facilities and infrastructure, technological capacity and other resources, and document institutional commitment to support of the Center; (2) Describe and document (e.g., publications, products, presentations) prior or current experience, such as related projects and collaborations, or genomics and population health research capacity, that is relevant to the purpose and proposed activities of this cooperative agreement; (3) Address specific capacity and capability criteria as described in the eligibility requirements (sections III.1 and III.3).

• Proposed Staffing—(1) Provide a biographical sketch for the Principal Investigator/Program Director and all key personnel. (2) Provide a description of all project staff, regardless of their funding source, that includes: title, qualifications, experience, responsibilities, minimum percentage of time to be devoted to the project and the proportion of the salary to be paid by the cooperative agreement. (3) Provide a timetable for the recruitment and hiring of proposed additional qualified staff and an organizational chart that illustrates the staffing plan.

• Work Plan—Applicants should provide a detailed work plan that describes their current ability to address each of the elements in the “Recipient Activities” section of this announcement, as well as their specific plans for developing additional capacity over the project period. Applicants are also encouraged to propose unique initiatives/approaches based on their interests and expertise that are relevant to and/or build upon one or more of these activities. The Work Plan should: (1) Provide specific, measurable and time-framed objectives for proposed responses to the “Recipient Activities.” (2) Describe proposed methods and approaches by which the objectives will be achieved. (3) Present a timeline for activities and objectives over the project period. (4) Provide a description of the involvement of other entities in the proposed project, including academic, private and public partners (particularly state and local health departments, health organizations and community groups), with a clear statement of roles and commitment of time that are reflected in attached letters of support. Be sure to distinguish activities and outcomes of joint and/or overlapping projects supported through other sources. (5) Describe proposed performance measures, products or other quantifiable outcomes for each activity and objective.

• Evaluation—Describe plans for establishing a four-year Center-level evaluation protocol. Include evaluation goals, resources and infrastructure to develop/support the plan: how project partners and communities served will provide input in plan development, an implementation timeline and a visual representation that depicts specific activities and outcomes (e.g., flow diagram, table, logic model: http://www.wkkf.org). The evaluation protocol should be capable of documenting measurable progress toward specific objectives, activities and projected outcomes outlined in the work plan, as well as demonstrating the degree to which strategies and programs were delivered as intended, their effectiveness in achieving desired results, successful collaborations with public health and other partners, lessons learned and how evaluation results will be used to improve the overall impact of the Centers.

• Budget—Provide a detailed budget for year one of the cooperative agreement and budget projections for subsequent years. Include travel for two persons to attend an annual two-day meeting in Atlanta.

• Budget Justification—Provide a narrative that includes justification for all requested costs, including personnel (i.e., name, position title, annual salary, percentage of time and effort, amount requested) and consultants (as above plus period of performance and scope of work).

Additional information should be included in the application appendices. The appendices will not be counted toward the narrative page limit. This additional information includes:

• Curriculum vitaes/resumes/biosketches;

• Letters of support (required);

• Organizational charts, evaluation models.

Questions that arise during the application process should be clearly stated and emailed to Dr. Myers at the Office of Genomics and Disease Prevention (MFMyers@cdc.gov). Responses will be generated by program staff and made available for all applicants to view. The questions and answers will be posted at least weekly at: www.cdc.gov/genomics/RFA2004questions.htm. Applicants may submit their questions in this format only.

Applicants are required to have a Dun and Bradstreet Data Universal Numbering System (DUNS) number to apply for a grant or cooperative agreement from the Federal government. The DUNS number is a nine-digit identification number, which uniquely identifies business entities. Obtaining a DUNS number is easy and there is no charge. To obtain a DUNS number, access www.dunandbradstreet.com or call 1-866-705-5711.

For more information, see the CDC Web site at: http://www.cdc.gov/od/pgo/funding/pubcommt.htm.

If the application form does not have a DUNS number field, the applicant should write the DUNS number at the top of the first page of the application, and/or include the DUNS number in the application cover letter.

Additional requirements that may require the applicant to submit additional documentation with the application are listed in section “VI.2. Administrative and National Policy Requirements.”

IV.3 Submission Dates and Times

LOI Deadline Date: May 17, 2004.

Application Deadline Date: June 15, 2004.

Explanation of Deadlines: Applications must be received in the CDC Procurement and Grants Office by 4 p.m. eastern time on the deadline date. If the application is sent by the United States Postal Service or commercial delivery service, the applicant must ensure that the carrier will be able to guarantee delivery of the application by the closing date and time. If CDC receives the application after closing due to: (1) Carrier error, when the carrier accepted the package with a guarantee for delivery by the closing date and time, or (2) significant weather delays or natural disasters, the applicant will be given the opportunity to submit documentation of the carrier's guarantee. If the documentation verifies a carrier problem, CDC will consider the application as having been received by the deadline.

This announcement is the definitive guide on application submission address and deadline. It supersedes information provided in the application instructions. If the application does not meet the deadline above, it will not be eligible for review, and will be discarded. The applicants will be notified that their application did not meet the submission requirements.

CDC will not notify the applicant upon receipt of the application. If the applicant has a question about the receipt of the application, first contact the courier. If the applicant still has a question, contact the PGO-TIM staff at: 770-488-2700. Before calling, please wait two to three days after the application deadline. This will allow time for applications to be processed and logged.

IV.4 Intergovernmental Review of Applications

Executive Order 12372 does not apply to this program.

IV.5 Funding Restrictions

Restrictions, which must be taken into account while writing your budget, are as follows:

• Use of Funds—Cooperative agreement funds may not be used to support the provision of direct patient care, for facility or capital outlay, or to conduct research involving human subjects.

• Awards will not allow reimbursement of pre-award costs.

• Funds should not be allocated to develop/produce new training products/tools, such as CD-ROMs or on-line training. See Sections on Recipient Activities (3) and I.4, (2) c.

If indirect costs are requested in the budget, a copy of all indirect cost rate agreements must be included. If the indirect cost rate is a provisional rate, the agreement should be less than 12 months of age.

Guidance for completing the budget can be found on the CDC Web site, at the following Internet address: http://www.cdc.gov/od/pgo/funding/budgetguide.htm.

IV.6 Other Submission Requirements

LOI Submission Address: Submit your LOI by express mail, delivery service, fax, or e-mail to: Melanie F. Myers, Ph.D., Office of Genomics and Disease Prevention, Office of the Director, Centers for Disease Control and Prevention, 1600 Clifton Road, NE., Mail Stop E-82, Atlanta, GA 30333, fax: 404-498-1444, e-mail: MFMyers@cdc.gov.

Application Submission Address: Submit the original and two hard copies of your application by mail or express delivery service to: Technical Information Management—PA #04143, CDC Procurement and Grants Office, 2920 Brandywine Road, Atlanta, GA 30341. Applications may not be submitted electronically at this time.

V. Application Review Information

V.1 Criteria

Applicants are required to provide measures of effectiveness that relate to the goal stated in the “Purpose” section (I.3) of this announcement and will demonstrate the accomplishment of the various identified objectives and activities of the cooperative agreement. Measures must be objective and quantitative, and must measure the intended outcome(s) (as described in the Work Plan and Evaluation Plan, section IV.2). These measures of effectiveness must be submitted with the application and will be one element in the evaluation of the full proposal described below.

Note that the criteria below are listed in descending order by weight. Applicants do not need to utilize this weighted order in preparing the narrative (see IV.2 for guidance on content).

Applications will be evaluated against the following criteria:

• Work Plan (25 Points):

Does the applicant adequately describe a work plan for achieving the proposed objectives?

Does the applicant provide specific, measurable and time-framed objectives for each of the recipient activities?

Is there a realistic timeline and adequate allocation of resources for major activities?

Does the applicant adequately support the proposed approaches and methodology to carry out project activities?

Are projected products and outcomes clearly defined?

Does the applicant adequately describe relationships with public health, health care and academic partners, including defined roles and levels of commitment to this proposal, and methods for establishing and maintaining these relationships?

Were all appropriate letters of support provided?

• Relevant Experience (20 Points):

Does the demonstrated experience of the applicant team and partners support their ability to accomplish the proposed objectives and activities?

Does the applicant demonstrate their ability and willingness to successfully participate in collaborative activities?

How well does the applicant describe and document the principal investigator's experience and expertise, including project oversight, collaboration(s) with the health practice community and a track record of producing results and reports for publication?

• Staffing (20 Points):

Does the applicant provide a staffing plan that includes defined roles, relevant expertise and experience, percentage effort of key personnel and timetable for any planned recruitment?

Does the applicant provide an organizational chart that illustrates internal and external relationships?

How well do the organizational chart and staffing plan support the proposed objectives and activities?

Have the principal investigator and other key personnel obligated a sufficient amount of time to support the proposed roles?

Is the PI's authority and responsibility for carrying out the proposed project clearly defined?

• Resources (15 Points):

How well does the applicant describe the institutional commitment to the development of the Center (e.g., facilities, technological capacity, other resources)?

Is the commitment and allocation of fiscal and professional resources adequate to support the proposal?

How well does the applicant describe and document commitment of academic, public and private partners and collaborators?

• Evaluation Plan (10 Points):

Does the applicant provide a comprehensive four-year evaluation plan, including clearly stated objectives?

Does the evaluation plan support measurement of progress toward the achievement of time-framed objectives and planned activities?

Does the evaluation plan support the ability to gather information about the Center development process?

• Background (10 Points):

Does the applicant display an understanding of the genome research to practice continuum and how proposed activities will facilitate translation of knowledge to practice?

Does the applicant demonstrate understanding of public health and health practice, and the need to incorporate genomics capacity into population health programs?

Does the applicant clearly explain the relevance of the proposed recipient activities (section I.4) to the Purpose of the Announcement (I.3)?

• Budget (Reviewed, but not Scored):

Is the budget submitted by the applicant detailed, clear, justified and consistent with proposed program activities?

V.2 Review and Selection Process

Applications will be reviewed for completeness by the Procurement and Grants Office (PGO) staff, and for responsiveness by OGDP. Incomplete applications and applications that are non-responsive to the eligibility criteria will not advance through the review process. Applicants will be notified that their application did not meet submission requirements.

An objective review panel will evaluate complete and responsive applications according to the criteria listed in the “V.1. Criteria” section above.

In addition, the following factors may affect the funding decision: Maintenance of geographic diversity.

V.3 Anticipated Announcement and Award Dates

September 1, 2004.

VI. Award Administration Information

VI.1 Award Notices

Successful applicants will receive a Notice of Grant Award (NGA) from the CDC Procurement and Grants Office. The NGA shall be the only binding, authorizing document between the recipient and CDC. The NGA will be signed by an authorized Grants Management Officer, and mailed to the recipient fiscal officer identified in the application.

Unsuccessful applicants will receive notification of the results of the application review by mail.

VI.2 Administrative and National Policy Requirements 45 CFR part 74 and part 92.

For more information on the Code of Federal Regulations, see the National Archives and Records Administration at the following Internet address: http://www.accessxgpo.gov/nara/cfr/cfr-table-search.html

The following additional requirements apply to this project:

• AR-8 Public Health System Reporting Requirements

• AR-10 Smoke-Free Workplace Requirements

• AR-11 Healthy People 2010;

• AR-12 Lobbying Restrictions;

• AR-14 Accounting System Requirements;

• AR-15 Proof of Non-profit Status;

• AR-20 Conference Support;

• AR-24 Health Insurance Portability and Accountability Act Requirements.

VI.3 Reporting Requirements

The applicant must provide CDC with an original, plus two hard copies, of the following reports:

(1) Annual interim progress report (no less than 90 days before the end of the budget period). The progress report will serve as your non-competing continuation application, and must contain the following elements:

a. Current Budget Period Activities Objectives;

b. Current Budget Period Financial Progress;

c. New Budget Period Program Proposed Activity Objectives;

d. Budget;

e. Additional Requested Information;

f. Measures of Effectiveness.

(2) Financial status report, (no more than 90 days after the end of the budget period) and semi-annual progress report by March 15 of each funding year.

(3) Final financial and performance reports (no more than 90 days after the end of the project period).

These reports must be mailed to the Grants Management or Contract Specialist listed in the “Agency Contacts” section of this announcement.

VII. Agency Contacts

Technical questions that arise during the application process should be clearly stated and e-mailed to Dr. Myers at the Office of Genomics and Disease Prevention (MFMyers@cdc.gov). Responses will be generated by program staff and made available for all applicants to view. The questions and answers will be posted at least weekly at: www.cdc.gov/genomics/RFA2004questions.htm. Applicants may submit their questions in this format only.

For general questions about this announcement, contact: Technical Information Management Section, CDC Procurement and Grants Office, 2920 Brandywine Road, Atlanta, GA 30341, telephone number: 770-488-2700.

For grants management, or budget assistance, contact: Mattie Jackson, Grants Management Specialist, CDC Procurement and Grants Office, 2920 Brandywine Road, Atlanta, GA 30341, telephone number: 770-488-2696, e-mail: mij3@cdc.gov.

For program technical assistance, contact: Melanie F. Myers, Ph.D., Office of Genomics and Disease Prevention, Office of the Director, Centers for Disease Control and Prevention, 1600 Clifton Road, NE., Mail Stop E-82, Atlanta, GA 30333, e-mail: MFMyers@cdc.gov.

Dated: April 9, 2004.
William P. Nichols,
Acting Director, Procurement and Grants Office, Centers for Disease Control and Prevention.

[FR Doc. 04-8637 Filed 4-15-04; 8:45 am]

BILLING CODE 4163-18-P